DEPARTMENT OF THE INTERIOR

Fish and Wildlife Service

50 CFR Part 17

RIN 1018-AH02

Endangered and Threatened Wildlife and Plants; Designations of Critical Habitat for Plant Species From the Island of Hawaii, Hawaii

AGENCY: Fish and Wildlife Service, Interior.

ACTION: Proposed rule; extension of comment period, and pubic hearing announcement.

SUMMARY: The U.S. Fish and Wildlife Service (Service) gives notice of two public hearings on the proposed critical habitat designations for 47 plants from the island of Hawaii. The comment period for the proposed critical habitat designations originally closed on July 29, 2002. The comment period was reopened on August 26, 2002, and was scheduled to close on September 30, 2002. We are now announcing two public hearings and are extending the comment period to allow all interested parties to submit oral or written comments on the proposal. We are seeking comments or suggestions from the public, other concerned agencies, the scientific community, industry, or any other interested parties concerning the proposed rule. Comments already submitted on the proposed rule need not be resubmitted as they will be fully considered in the final determination.

DATES: The comment period for this proposal now closes on November 30, 2002. Any comments received by the closing date will be considered in the final decision on this proposal. Two public hearings will be held on the island of Hawaii, on Tuesday, October 29, 2002, in Kailua-Kona from 5:30 p.m. to 8:30 p.m. and on Wednesday, October 30, 2002, in Hilo from 6:00 p.m. to 8:00 p.m. Prior to both public hearings, the Service will be available from 3:30 to 4:30 p.m. to provide information and to answer questions. The Service will also be available for questions after the hearings.

ADDRESSES: The public hearing in Kailua-Kona will be held at the King Kamehameha Hotel, 75-5660 Palani Road, Kailua-Kona, HI. The public hearing in Hilo will be held at the Hawaii Naniloa Resort, 93 Banyon Dr., Hilo, HI. Comments and materials concerning this proposal should be sent to the Field Supervisor, U.S. Fish and Wildlife Service, Pacific Islands Office, 300 Ala Moana Boulevard, Room 3-122, P.O. Box 50088, Honolulu, HI 96850. Comments and materials received will be available for public inspection, by appointment, during normal business hours at the above address.

FOR FURTHER INFORMATION CONTACT: Paul Henson, at the above address (telephone 808/541-3441; facsimile 808/541-3470).

SUPPLEMENTARY INFORMATION: The public hearing scheduled in Kailua-Kona for the proposed critical habitat designations for 47 plants from the island of Hawaii announced in this Federal Register notice and the public hearing for the proposal to designate critical habitat for Blackburn's sphinx moth announced in a separate Federal Register notice are scheduled for the same date, time, and location as a matter of convenience to the public. We will accept comments at the Kailua-Kona public hearing on the proposed critical habitat designations for 47 plants from the island of Hawaii, as well as the proposal to designate critical habitat for Blackburn's sphinx moth.

Background

On May 28, 2002, we published a proposed critical habitat rule for 47 of the 58 plant species listed under the Endangered Species Act of 1973, as amended (Act) (16 U.S.C. 1531 et seq.), known historically from the island of Hawaii (67 FR 36968).

A total of 58 species historically found on the island of Hawaii were listed as endangered or threatened species under the Act between 1991 and 1996. Some of these species may also occur on other Hawaiian islands. In previously published proposals we proposed that critical habitat was prudent for 31 (Achyranthes mutica, Adenophorus periens, Asplenium fragile var. insulare, Bonamia menziesii, Cenchrus agrimonioides, Clermontia lindseyana, Clermontia peleana, Colubrina oppositifolia, Ctenitis squamigera, Delissea undulata, Diellia erecta, Flueggea neowawraea, Gouania vitifolia, Hedyotis cookiana, Hedyotis coriacea, Hibiscus brakenridgei, Ischaemum byrone, Isodendrion pyrifolium, Mariscus fauriei, Mariscus pennatiformis, Phlegmariurus mannii, Phyllostegia parviflora, Plantago princeps. Portulaca sclerocarpa, Sesbania tomentosa, Silene lanceolata, Solanum incompletum, Spermolepis hawaiiensis, Tetramolopium arenarium, Vigna o-wahuensis, and Zanthoxylum hawaiiense) of the 58 species reported from the island of Hawaii. No change is made to the 31 proposed prudency determinations in the May 28, 2002, proposed critical habitat rule for plants from Hawaii. In the May 28, 2002, proposal we proposed that designation of critical habitat was not prudent for two species, Pritchardia affinis and Pritchardia schattaueri, because it would likely increase the threat from vandalism or collection of these species on the island of Hawaii (67 FR 36968). In addition, we proposed that critical habitat designation was not prudent for two species, Cyanea copelandii ssp. copelandii and Ochrosia kilaueaensis, known only from the island of Hawaii, that have not been seen in the wild since 1957 and 1927, respectively, and for which no viable genetic material is known to exist (67 FR 36968). In the May 28, 2002, proposed critical habitat rule, we proposed that designation of critical habitat is prudent for 23 species (Argyroxiphium kauense, Clermontia drepanomorpha, Clermontia pyrularia, Cyanea hamatiflora ssp. carlsonii, Cyanea platyphylla, Cyanea shipmanii, Cyanea sticophylla, Cyrtandra giffardii, Cyrtandra tintinnabula, Hibiscadelphus giffardianus, Hibiscadelphus hualalaiensis, Isodendrion hosakae, Melicope zahlbruckneri, Neraudia ovata, Nothocestrum breviflorum, Phyllostegia racemosa, Phyllostegia velutina, Phyllostegia warshaueri, Plantago hawaiensis, Pleomele hawaiiensis, Sicyos alba, Silene hawaiiensis, and Zanthoxylum dipetalum var. tomentosum) for which prudency determinations had not been made previously (67 FR 36968).

We also proposed designation of critical habitat for 47 plant species (Achyranthes mutica, Adenophorus periens, Argyroxiphium kauense, Asplenium fragile var. insulare, Bonamia menziesii, Clermontia drepanomorpha, Clermontia lindseyana, Clermontia peleana, Clermontia pyrularia, Colubrina oppositifolia, Cyanea hamatiflora ssp. carlsonii, Cyanea platyphylla, Cyanea shipmanii, Cyanea stictophylla, Cyrtandra giffardii, Cyrtandra tintinnabula, Delissea undulata, Diellia erecta, Flueggea neowawraea, Gouania vitifolia, Hedyotis coriacea, Hibiscadelphus giffardianus, Hibiscadelphus hualalaiensis, Hibiscus brakckenridgei, Ischaemum byrone, Isodendrion hosakae, Isodendrion pyrifolium, Mariscus fauriei, Melicope zahlbruckneri, Neraudia ovata, Nothocestrum breviflorum, Phyllostegia racemosa, Phyllostegia velutina, Phyllostegia warshaueri, Plantago hawaiensis, Pleomele hawaiiensis, Portulaca sclerocarpa, Sesbania tomentosa, Sicyos alba, Silene hawaiiensis, Silene lanceolata, Solanum incompletum, Spermolepis hawaiiensis, Tetramolopium arenarium, Vigna o-wahuensis, Zanthroxylum dipetalum var. tomentosum, and Zanthoxylum hawaiiense). Critical habitat is not proposed for 4 (Cyanea copelandii spp. copelandii, Ochrosia kilaueaensis, Pritchardia affinis, and Pritchardia schattaueri) of the 58 species for the reasons given above. Critical habitat is not proposed for 7 (Cenchrus agrimonioides, Ctenitis squamigera, Hedyotis cookiana, Mariscus pennatiformis, Phlegmariurus mannii, Phyllostegia parviflora, and Plantago princeps) species which no longer occur on the island of Hawaii, and for which we are unable to determine any habitat that is essential to their conservation on the island of Hawaii.

Twenty-eight critical habitat units, totaling approximately 176,968 hectares (437,285 acres), are proposed for designation for 47 plant species on the island of Hawaii. For locations of these proposed units, please consult the proposed rule (67 FR 36968) that was published May 28, 2002.

Section 4(b)(5)(E) of the Act requires that a public hearing be held if it is requested within 45 days of the publication of a proposed rule. We received two requests from recreational hunting organizations to hold public hearings, however, one of the requests was received more than 45 days after publication of the proposal. In response to the initial request and as a matter of convenience to the public we will hold two public hearings on the dates and at the addresses described in the DATES and ADDRESSES sections.

Anyone wishing to make an oral statement for the record is encouraged to provide a written copy of their statement and present it to us at the hearing. In the event there is a large attendance, the time allotted for oral statements may be limited. Oral and written statements receive equal consideration. There are no limits to the length of written comments presented at the hearing or mailed to us. Legal notices announcing the date, time, and location of the public hearing will be published in newspapers concurrently with the Federal Register notice.

Persons needing reasonable accommodations in order to attend and participate in the public hearing should contact Patti Carroll at 503/231-2080 as soon as possible. In order to allow sufficient time to process requests, please call no later than 1 week before the hearing date.

Information regarding this proposal is available in alternative formats upon request.

Comments from the public regarding this proposed rule are sought, especially regarding:

(1) The reasons why critical habitat for any of these species is prudent or not prudent as provided by section 4 of the Act and 50 CFR 424.12(a)(1);

(2) The reasons why any particular area should or should not be designated as critical habitat for any of these species, as critical habitat is defined by section 3 of the Act;

(3) Specific information on the amount, distribution, and quality of habitat for the 47 species, and what habitat is essential to the conservation of the species and why;

(4) Land use practices and current or planned activities in the subject areas, and their possible impacts on proposed critical habitat;

(5) Any economic or other impacts resulting from the proposed designations of critical habitat, including any impacts on small entities, energy development, low income households, and local governments;

(6) Economic and other potential values associated with designating critical habitat for the above plant species such as those derived from non-consumptive uses (e.g., hiking, camping, birding, enhanced watershed protection, increased soil retention, “existence values”, and reductions in administrative costs);

(7) Information usable under section 4(b)(2) of the Act, in determining if the benefits of excluding an area from critical habitat outweigh the benefits of specifying the area as critical habitat;

(8) The effects of critical habitat designation on military lands, and how it would affect military activities, particularly military activities at the Pohakuloa Training Area lands on the island of Hawaii. Whether there will be a significant impact on military readiness or national security if we designate critical habitat on these facilities. Whether these facilities should be excluded from the designation under section 4(b)(2) of the Act;

(9) Whether Department of Defense lands should be excluded from critical habitat based on an approved Integrated Natural Resource Management Plan (INRMP);

(10) Whether areas which are managed for the conservation of the species should not be included in critical habitat because such areas do not meet the definition of critical habitat contained in section 3(5)(A)(i) of the Act;

(11) Whether areas covered by an approved conservation plan (e.g., Habitat Conservation Plans, Conservation Agreements, Safe Harbor Agreements) should be excluded from critical habitat; and

(12) Whether areas should be excluded under section 4(b)(2) of the Act because critical habitat designation would adversely impact other types of conservation partnerships that are beneficial to the species.

The public comment period for the May 28, 2002, proposal (67 FR 36968) originally closed on July 29, 2002. On August 26, 2002, we published a Federal Register notice (67 FR 54766) of the reopening of the comment period for the proposed designations and non-designations of critical habitat for plant species on the island of Hawaii, as well as for the proposed designations and non-designations of critical habitat for plant species on the islands of Kauai, Niihau, Molokai, Maui, Kahoolawe, Oahu, and the Northwestern Hawaiian Islands; and we announced that the comment period would close on September 30, 2002. We are now announcing two public hearings and the extension of the comment period for the proposed designations and non-designations of critical habitat for plant species on the island of Hawaii. We will accept public comments on the proposal for the island of Hawaii until November 30, 2002. The extension of the comment period gives all interested parties the opportunity to comment on the proposal. Comments already submitted on the proposed designations and non-designations of critical habitat for plant species from the island of Hawaii need not be resubmitted as they will be fully considered in the final determinations. Extension of the comment period will enable us to respond to the requests for a public hearing on the proposed action. Written comments should be submitted to the Service office listed in the ADDRESSES section. The comment period now closes on November 30, 2002.

Author

The primary author of this notice is Christa Russell (see ADDRESSES section).

Authority: The authority for this action is the Endangered Species Act of 1973 (16 U.S.C. 1531 et seq.).

Dated: September 16, 2002.
Craig Manson,
Assistant Secretary for Fish and Wildlife and Parks.

[FR Doc. 02-24248 Filed 9-23-02; 8:45 am]

BILLING CODE 4310-55-M